DEPARTMENT OF DEFENSE

Department of the Army, Corps of Engineers

Norfolk Harbor and Channels Deepening NEPA Scoping Meeting and Public Comment Period

AGENCY: Department of the Army, U.S. Army Corps of Engineers, DoD.

ACTION: NEPA scoping meeting and public comment period.

SUMMARY: Pursuant to the requirements of the National Environmental Policy Act of 1969, as amended (NEPA), 42 U.S.C. 4321-4370, as implemented by the Council on Environmental Quality Regulations (40 CFR parts 1500-1508), the U.S. Army Corps of Engineers (USACE) plans to prepare an Environmental Assessment (EA) to evaluate environmental impacts from reasonable project alternatives and to determine the potential for significant impacts related to improvements to the Norfolk Harbor Channels. If the USACE determines that there is a potential for a significant environmental impact, the USACE will issue a Notice of Intent to prepare an Environmental Impact Statement in the Federal Register.

Federal, state, and local agencies, Indian tribes, and the public are invited to provide scoping comments to identify issues, alternatives, and potentially significant effects to be considered in the analysis.

DATES: Scoping comments may be submitted until October 30, 2015.

ADDRESSES: The public is invited to submit NEPA scoping comments at the meeting and/or submit comments to Alicia Logalbo, USACE, via email/mail/telephone at Alicia.Logalbo@usace.army.mil/ ATTN: Alicia Logalbo, Department of the Army, U.S. Army Corps of Engineers, Norfolk District, Fort Norfolk, 803 Front St., Norfolk, VA 23510, (757) 201-7210. The project title and the commenter's contact information should be included with submitted comments.

FOR FURTHER INFORMATION CONTACT: Alicia Logalbo, (757) 201-7210.

SUPPLEMENTARY INFORMATION: The USACE is the lead federal agency for this project and the Commonwealth of Virginia acting through its Agent, the Virginia Port Authority, will act as the non-federal sponsor for the study. Norfolk Harbor (sometimes referred to as the Port of Hampton Roads) is located in the southeastern part of the Commonwealth of Virginia at the southern end of Chesapeake Bay, midway on the Atlantic Seaboard (approximately 170 miles south of Baltimore, MD, and 220 miles north of Wilmington, NC). The harbor is formed by the confluence of the James, Nansemond, and Elizabeth Rivers. The land area surrounding the harbor encompasses approximately 1,500 square miles and includes the cities of Chesapeake, Norfolk, Portsmouth, Suffolk, and Virginia Beach, as well as Isle of Wight County on the south side and Hampton and Newport News on the north side. The Norfolk Harbor and Channels Deepening Project consists of a network of federally-improved channels extending from the Atlantic Ocean, through the Chesapeake Bay, and into the Port of Hampton Roads. The study is anticipated to include an evaluation of a range of Norfolk Harbor Channels' dimensions. Specific planning objectives for the Norfolk Harbor and Channels Deepening General Reevaluation Study include:

• Determine if light loading, tidal delay, or other commercial navigation benefits exist to justify increasing channel system dimensions in the Atlantic Ocean Channel, the Thimble Shoal Channel, and/or the Norfolk Harbor Channel to Lambert's Point on the Main Branch of the Elizabeth River;

• Examine the impact of increased channel system dimensions on the capacity of existing dredged material placement sites;

• Evaluate the impact of increased channel system dimensions on shoaling rates for existing and advance harbor maintenance needs;

• Examine the hydrodynamic and environmental effects of increased dimensions of the channel system and effects on adjacent shorelines;

• Identify environmental and cultural resources in the study area and potential impacts from increased channel system dimensions to those resources; and

• Identify the National Economic Development plan which most efficiently and safely accommodates existing and larger commercial ship and barge traffic while avoiding or minimizing impacts to environmental resources.

Scoping/Public Involvement. A public NEPA scoping meeting will be held on September 24, 2015 from 6:00 p.m.-8:00 p.m. The NEPA scoping meeting will be held at the Half Moone Cruise and Celebration Center, Virginia Room, 1 Waterside Drive, Norfolk, VA 23510.

Brenda S. Bowen,
Army Federal Register Liaison Officer.

[FR Doc. 2015-24085 Filed 9-21-15; 8:45 am]

BILLING CODE 3710-58-P